DEPARTMENT OF JUSTICE

National Institute of Corrections

New Jail Planning Initiative; Review and Revision

The following funding opportunity was published on Friday, May 20, 2011 in Volume 76, Issue 98.

Solicitation for a Cooperative Agreement—New Jail Planning Initiative: Review and Revision. Funding Opportunity Number 11JA03, found on pages 29268-29271. “Notice”—Two corrections have been made to this solicitation. First, NIC has deleted the following statement from the original document: “The narrative portion of the application should not exceed ten double-spaced typewritten pages, excluding attachments related to the credentials and relevant experience of staff.” There is now no limitation on the length of the narrative.

Second, NIC has deleted the following review criteria listed under Applicant Organization and Project Staff Background on the original document: “Do the primary project personnel, individually or collectively, have expertise on the key elements in jail administration?”

Morris L. Thigpen,
Director, National Institute of Corrections.

[FR Doc. 2011-14050 Filed 6-7-11; 8:45 am]

BILLING CODE 4410-36-P